DEPARTMENT OF AGRICULTURE

Rural Utilities Service

Jackson County Lake Project

AGENCY: Rural Utilities Service, USDA.

ACTION: Notice of Availability of Draft Environmental Impact Statement and Notice of Public Meeting.

SUMMARY: Notice is hereby given that the Rural Utilities Service (RUS) is issuing a Draft Environmental Impact Statement (EIS) for the Jackson County Lake Project. The Draft EIS was prepared pursuant to the National Environmental Policy Act of 1969 (NEPA) (U.S.C. 4231 et seq.) in accordance with the Council on Environmental Quality (CEQ) regulations for implementing the procedural provisions of NEPA (40 CFR parts 1500-1508) and RUS regulations (7 CFR part 1940, Subpart G). RUS invites comments on the Draft EIS.

The purpose of the EIS is to evaluate the potential environmental impacts of and alternatives to the Jackson County Empowerment Zone (EZ) Community, Incorporated and Jackson County Water Association's (JCWA) applications for financial assistance to provide water supply for the residents of Jackson County and parts of surrounding counties. The project, known as the Jackson County Lake Project, proposes to construct a roller-compacted concrete dam to create a reservoir within Jackson County, Kentucky, and to construct a raw water transmission main from the proposed reservoir to the JCWA Treatment Plant. A 300-foot buffer zone surrounding the reservoir horizontally from the normal pool level has been proposed to protect the water quality of the reservoir by restricting development and certain land uses in this area. Also included in the proposal is the construction of a water intake structure and a pump house to pump water out of the reservoir. Proposed recreational development around the reservoir may include a boat ramp, boat dock, public beach, hiking trails, picnic areas, and a primitive campground.

DATES: Written comments on this Draft EIS will be accepted on or before July 10, 2000. A public meeting will be held on June 27, 2000. The public meeting will be held in two sessions, one beginning at 10 a.m. and one beginning at 7 p.m.

ADDRESSES: To send comments or for more information, contact: Mark S. Plank, USDA, Rural Utilities Service, Engineering and Environmental Staff, 1400 Independence Avenue, Mail Stop 1571, Washington DC 20250, telephone (202) 720-1649, fax (202) 720-0820, or email: mplank@rus.usda.gov. Further information can also be obtained from: Thomas G. Fern, State Director, USDA, Rural Development State Office, 771 Corporate Drive, Suite 200, Lexington, KY 40503, telephone (606) 224-7300, or fax (606) 224-7340. The public meeting will be held in the gymnasium of Jackson County High School, located on U.S. 421.

A copy of the Draft EIS can be obtained or viewed online at http://www.usda.gov/rus/water/ees/deis-jc.htm. The files are in a portable document format (pdf); in order to review or print the document, users need to obtain a free copy of Acrobat Reader. The Acrobat Reader can be obtained from http://www.adobe.com/prodindex/acrobat/readstep.html.

Copies of the Draft EIS will be available for public review during normal business hours at the following locations:

Jackson County Public Library, Courthouse Square, PO Box 160, McKee, KY 40447, (606) 287-8113

Natural Resources Conservation Service, U.S. Highway 421 South, McKee, KY 40447, (606) 287-8311

Jackson County Extension Service, 263 U.S. Highway 421 South, PO Box 188, McKee, KY 40447, (606) 287-7693

Kentucky Highlands Investment Corporation, 362 Old Whitley Road, London, KY 40741, (606) 864-5175

Jackson County EZ Community, Incorporated, McCammon Ridge Road, PO Box 280, McKee, KY 40447, (606) 287-8395

USDA Rural Development, 771 Corporate Drive, Suite 200, Lexington, KY 40503, (606) 224-7300.

SUPPLEMENTARY INFORMATION: Pursuant to Subchapter C, Part 1 (Empowerment Zones, Enterprise Communities and Rural Development Investment Areas) of Title XIII of the Omnibus Budget Reconciliation Act of 1993, Jackson County, Kentucky is located in an area designated as an Empowerment Zone/Enterprise Community (EZ/EC) (see Federal Register Vol. 60, No. 24, February 6, 1995). The purpose of the EZ/EC initiative is to empower rural communities and their residents to create opportunities for economic development as part of a Federal-State-local and private sector partnership. The proposed action is an integral component of the EZ/EC initiative as identified in the Kentucky Highland Empowerment Zone's Strategic Plan. The proposed action will improve the area's water supply necessary for promoting economic development in the area.

The Jackson County EZ Community, Inc. and the JCWA have applied for financial assistance for the Jackson County Lake Project from the following: RUS; Appalachian Regional Commission; U.S. Department of Commerce, Economic Development Administration; Department of Housing and Urban Development; Kentucky Highlands Empowerment Zone; and Kentucky Tobacco Settlement money. In accordance with 40 CFR 1501.5, Lead Agencies, the RUS is the lead Agency for the EIS and the U.S. Forest Service is the Cooperating Agency.

A number of alternatives were evaluated in the EIS and were determined to be unreasonable or inefficient due to environmental or economic reasons or due to an insufficient yield to meet the projected water needs of Jackson County. These alternatives included eleven reservoir sites throughout Jackson County, groundwater development, the expansion of existing surface water storage facilities within Jackson County, water conservation, and importing water from existing surface water resources in surrounding counties to the JCWA Treatment Plan.

Three alternative sites for the dam and reservoir were determined to be reasonable for further consideration, and are evaluated in the EIS along with the No Action alternative. these alternative reservoir sites include the War Fork and Steer Fork site, the Sturgeon Creek, 8.5 million gallons per day (mgd) site, and the Sturgeon Creek, 2.5 mgd site.

The War Fork and Steer Fork dam site is located about 0.5 miles southwest of Turkey Foot in eastern Jackson County. The dam would be situated on War Fork, 0.75 miles north of the confluence with Steer Fork. The dam would be about 87 to 107 feet tall, 760 to 790 feet long, and 102 to 122 feet wide, creating a reservoir with an average yield of 2.5 mgd of raw water. At a normal pool elevation of 980 feet above mean sea level (MSL), the surface area of this reservoir would be about 116 acres. At a potential maximum floor elevation of 1,000 feet above MSL, the surface area of the reservoir would be approximately 162 acres. The total acreage for a reservoir at maximum flood level at this site, with a 300-foot buffer extending from normal pool level, would be about 337 acres of land. As much of this land is currently part of the Daniel Boone National Forest, land acquisition at this site would require a land exchange with the U.S. Forest Service. the War Fork and Steer Fork reservoir site has been identified as the Lead Agency's Preferred Alternative.

The Sturgeon Creek, 8.5 mgd dam site is located near the Jackson/Owsley County boundary line in eastern Jackson County. The dam would be situated on Sturgeon Creek, just below the confluence with Blackwater Creek. The dam would be about 84 to 100 feet tall, 825 to 850 feet long, and 99 to 115 feet wide, creating a reservoir with an average yield of 8.5 mgd of raw water. Due to this greater yield, a reservoir at this site might be used as a regional water supply source to serve the needs of neighboring counties in addition to Jackson County. At a normal pool elevation of 990 feel above MSL, the surface area of this reservoir would be about 467 acres. At a potential maximum flood elevation of 1,010 feet above MSL, the surface of the reservoir would be approximately 740 acres. The total acreage for a reservoir at maximum flood level at this site, with a 300-foot buffer extending from normal pool level, would be about 1,119 acres of land. all of this land is currently privately owned. Implementation of the project at this site would require the relocation of residents currently living on the project at this site would require the relocation of residents currently living on the project site and the demolition or relocation of existing structures in this area, including homes, barns, and outbuildings. There would also be connected actions associated with the project at this site, such as plugging water and oil wells in the project area, closing existing septic and storage tanks, and relocating roadways, such as KY 30.

The Sturgeon Creek, 3.5 mgd dam site is located near the Jackson/Owsley County boundary line in eastern Jackson County. The dam would be situated on Sturgeon Creek, about 0.6 miles above the confluence with Blackwater Creek. The dam would be about 64 to 67 feet tall, 500 to 600 feet long, and 104 to 107 feet wide, creating a reservoir with an average yield of 3.5 mgd of raw water. At a normal pool elevation of 980 feet above MSL, the furace area of this reservoir would be about 264 acres. At a potential maximum flood elevation of 1,000 feet above MSL, the surface area of the reservoir would be approximately 440 acres. The total acreage for a reservoir at maximum flood level at this site, with a 300-foot buffer extending from normal pool level, would be about 643 acres of land. All of this land is currently privately owned. Implementation of the project at this site would require the relocation of residents currently living on the project site and the demolition or relocation of existing structures in this area, including homes, barns, and outbuildings. There would also be connected actions associated with the project at this site, such as plugging water and oil wells in the project area, closing existing septic and storage tanks, and relocating roadways, such as KY 30.

Some major potential environmental impacts associated with the implementation of the proposed action that are common to all three dam and reservoir sites include a significant, beneficial increase in recreational opportunities provided by the reservoir, moderately significant changes in property values in the vicinity of and increases in business development induced by the proposed reservoir, moderately significant impacts to downstream aquatic biota and riparian vegetation due to decreased water quality; and significant impacts on the visual quality of the area, both adverse and beneficial.

There are also major potential site-specific environmental impacts associated with the implementation of the project. The project at the War Fork and Steer Fork site would have slightly greater adverse impacts on downstream water quality as a result of construction activities, due to the Wild and Scenic Study River status of the downstream river segment. In addition, there would be a more significant adverse impact on terrestrial plants and wildlife due to permanent elimination of forest habitat at this site. The Federally-endangered India bat (Myotis sodalis) is also more likely to utilize this site for foraging than either of the Sturgeon Creek sites, although it is unlikely that the project will have an adverse effect on the local population of these bats.

Major potential environmental impacts are similar at both of the Sturgeon Creek reservoir sites. Implementation of the project at these sites would result in a significant loss of Prime and other important farmland, moderately significant changes to roadway structure due to the necessary relocation of KY 30, and moderately significant permanent changes in land uses within the project area. The project would likely result in significant disruption of community structure and social relations due to necessary residential relocations from either of the project areas. There would also be a more significant adverse impact on human health and safety in the event of a dam failure at either of the Sturgeon Creek sites. In addition, a preliminary cultural resources survey indicated a potentially significant archeological site within the boundaries of both Sturgeon Creek reservoir sites, which would require Phase II testing, and the potential for historic sites and undisturbed, intact cultural deposits to be located there.

With this notice, RUS invites any affected Federal, State, and local Agencies and other interested persons to comment on the Draft EIS. RUS will hold a public meeting on June 27, 2000, in the gymnasium of Jackson County High School, located on U.S. 421. This public meeting will be held in two sessions, one beginning at 10 a.m. and one beginning at 7 p.m. In accordance with 40 CFR Section 1503.1, Inviting Comments, the purpose of the meeting will be to solicit comments from interested parties on the Draft EIS for the Jackson County Lake Project.

Throughout the Jackson County Lake Project EIS, two definitions of the No Action alternative were analyzed. The first definition, identified in the EIS as the No Change alternative, describes a situation in which nothing is done to meet the projected water and recreation needs of Jackson County. The No Change alternative was determined to be unreasonable due to the documented need for water in Jackson County. Therefore, a second definition, identified as the No Action alternative in the EIS, was also analyzed. The No Action alternative assumes that, although a dam and reservoir will not be constructed to meet the needs of Jackson County, other activities will occur to increase the current water supply, although in insufficient amounts to meet the projected needs. These activities may include drilling additional water wells throughout Jackson County, constructing water transmission lines from existing resources, such as intermittent streams, within the County to the JCWA Treatment Plant, or water conservation.

The major environmental and human health and safety impacts that would result from implementation of the No Action alternative include: Significant, continued lack of recreation needs within Jackson County and the surrounding region; a moderately significant adverse impact on human health and safety due to an insufficient water supply; a significant impediment to growth of industry, residential devleopment, and employment in Jackson County; an impediment to other development goals of the EZ/EC; and a significant potential to adversely and disproportionately affect minority or low-income groups due to further economic degradation and due to adverse health impacts associated with an insuficient water supply.

Dated: May 22, 2000.
John P. Romano,
Deputy Administrator, Water and Environmental Programs.

[FR Doc. 00-13294 Filed 5-25-00; 8:45 am]

BILLING CODE 3410-15-M